DEPARTMENT OF TRANSPORTATION

Federal Highway Administration

Cancellation of Environmental Impact Statement in Orange County, NC

AGENCY: Federal Highway Administration (FHWA), North Carolina Department of Transportation (NCDOT).

ACTION: Cancellation of U-3808 (Elizabeth Brady Road Extension) EIS.

SUMMARY: In Vol. 70, No. 113/Tuesday, June 14, 2005/Notices, FHWA issued a Notice of Intent to advise the public that an Environmental Impact Statement (EIS) would be prepared for the proposed Elizabeth Brady Road Extension between US 70 Business and US 70 Bypass in Orange County, North Carolina. The project is now cancelled; therefore, no further project activities will occur.

FOR FURTHER INFORMATION CONTACT: Mr. Clarence W. Coleman, Federal Highway Administration, North Carolina Division, 310 New Bern Avenue Suite 410, Raleigh, NC 27601-1418, Telephone, (919) 747-7014.

Issued on: January 17, 2012.
Clarence W. Coleman, Jr.,
Preconstruction and Environmental Team Leader, Raleigh, North Carolina.

[FR Doc. 2012-1192 Filed 1-20-12; 8:45 am]

BILLING CODE 4910-RY-P